ENVIRONMENTAL PROTECTION AGENCY

[FRL 9971-09-Region 1]

Proposed Cercla Administrative Cost Recovery Settlement; Rowayton Trading Company, Inc., Bridgeport Fire Site, Bridgeport, Connecticut

AGENCY: Environmental Protection Agency (EPA).

ACTION: Notice of proposed settlement; request for public comments.

SUMMARY: In accordance with Section 122(i) of the Comprehensive Environmental Response Compensation, and Liability Act, as amended (“CERCLA”), notice is hereby given of a proposed administrative settlement for recovery of response costs under CERCLA Section 122(h) and 104(e), concerning the Bridgeport Fire Superfund Site in Bridgeport, Connecticut with the following settling party: Rowayton Trading Company, Inc. The settlement requires Rowayton Trading Company, Inc. to pay $50,000 to the Hazardous Substance Superfund, and, if timely paid, shall include no interest.

For 30 days following the date of publication of this notice, the Agency will receive written comments relating to the settlement. The United States will consider all comments received and may modify or withdraw its consent to the settlement if comments received disclose facts or considerations which indicate that the settlement is inappropriate, improper, or inadequate. The Agency's response to any comments received will be available for public inspection at 5 Post Office Square, Boston, MA 02109-3912.

DATES: Comments must be submitted by December 28, 2017.

ADDRESSES: Comments should be addressed to Cynthia Lewis, Senior Enforcement Counsel, U.S. Environmental Protection Agency, 5 Post Office Square, Suite 100 (OES04-3), Boston, MA 02109-3912 (Telephone No. 617-918-1889) and should refer to: In re: Grant Street Fire Superfund Site, U.S. EPA Docket No. CERCLA 01-2017-0026.

FOR FURTHER INFORMATION CONTACT: A copy of the proposed settlement may be obtained from Cynthia Lewis, Senior Enforcement Counsel, U.S. Environmental Protection Agency, 5 Post Office Square, Suite 100 (OES04-3), Boston, MA 02109-3912; (617) 918-1889; lewis.cindy@epa.gov).

SUPPLEMENTARY INFORMATION: In this proposed administrative settlement for recovery of response costs under CERCLA Section 122(h)(1) and 104(e)(6), concerning the Bridgeport Fire Superfund Site in Bridgeport, Connecticut, requires settling party, Rowayton Trading Company, Inc. to pay $50,000 to the Hazardous Substance Superfund, and, if timely paid, shall include no interest. The settlement includes a covenant not to sue pursuant to Sections 106 and 107(a) of CERCLA, 42 U.S.C. 9606 and 9607, relating to the Site, and protection from contribution actions or claims as provided by Sections 113(f)(2) and 122(h)(4) of CERCLA, 42 U.S.C. 9613(f)(2) and 9622(h)(4). The settlement has been approved by the Environmental and Natural Resources Division of the United States Department of Justice.

Dated: October 30, 2017.
Bryan Olson,
Director, Office of Site Remediation and Restoration.

[FR Doc. 2017-25707 Filed 11-27-17; 8:45 am]

BILLING CODE 6560-50-P